DEPARTMENT OF LABOR

Employment and Training Administration

[TA-W-65, 615]

Temic Automotive of North America, Inc., Northbrook, IL; Notice of Termination of Investigation

Pursuant to Section 221 of the Trade Act of 1974, as amended, an investigation was initiated on March 17, 2009 in response to a petition filed by a company official on behalf of workers at Temic Automotive of North America, Inc., Northbrook, Illinois. The workers at the subject facility produce automotive electronic components.

The petitioner has requested that the petition be withdrawn. Consequently, the investigation has been terminated.

Signed in Washington, DC, this 28th day of April 2009.
Richard Church,
Certifying Officer, Division of Trade Adjustment Assistance.

[FR Doc. E9-11857 Filed 5-20-09; 8:45 am]

BILLING CODE 4510-FN-P